SMALL BUSINESS ADMINISTRATION

[Disaster Declaration # 16253 and # 16254; PUERTO RICO Disaster Number PR-00034]

Presidential Declaration Amendment of a Major Disaster for the Commonwealth of Puerto Rico

AGENCY: U.S. Small Business Administration.

ACTION: Amendment 2.

SUMMARY: This is an amendment of the Presidential declaration of a major disaster for the Commonwealth of Puerto Rico (FEMA-4473-DR), dated 01/16/2020.

Incident: Earthquakes.

Incident Period: 12/28/2019 and continuing.

DATES: Issued on 02/05/2020.

Physical Loan Application Deadline Date: 03/16/2020.

Economic Injury (EIDL) Loan Application Deadline Date: 10/16/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of PUERTO RICO, dated 01/16/2020, is hereby amended to include the following areas as adversely affected by the disaster:

Primary Municipalities (Physical Damage and Economic Injury Loans): Arecibo, Ciales, Hormigueros, Juana Diaz, Las Marias, Mayaguez, Morovis, Orocovis, Sabana Grande.

Contiguous Municipalities (Economic Injury Loans Only):

Puerto Rico: Barceloneta, Florida, Manati, Santa Isabel, Vega Baja.

All other information in the original declaration remains unchanged.

(Catalog of Federal Domestic Assistance Number 59008)

James Rivera,
Associate Administrator for Disaster Assistance.

[FR Doc. 2020-02825 Filed 2-11-20; 8:45 am]

BILLING CODE 8026-03-P